ENVIRONMENTAL PROTECTION AGENCY

40 CFR Part 52

[EPA-R07-OAR-2015-0840; FRL-9942-39-Region 7]

Approval of Iowa's State Implementation Plan (SIP); Electronic Reporting Consistent With the Cross-Media Electronic Reporting Rule (CROMERR)

AGENCY: Environmental Protection Agency (EPA).

ACTION: Direct final rule.

SUMMARY: The Environmental Protection Agency (EPA) is approving a SIP revision submitted by the State of Iowa. The revision pertains to the approval of Iowa's CROMERR submission which was published in the Federal Register on December 9, 2015, and will revise the Iowa SIP to provide for electronic submittal of emission inventory data.

DATES: This direct final rule will be effective April 18, 2016, without further notice, unless EPA receives adverse comment by March 17, 2016. If EPA receives adverse comment, we will publish a timely withdrawal of the direct final rule in the Federal Register informing the public that the rule will not take effect.

ADDRESSES: Submit your comments, identified by Docket ID No. EPA-R07-OAR-2015-0840, to http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Heather Hamilton, Environmental Protection Agency, Air Planning and Development Branch, 11201 Renner Boulevard, Lenexa, Kansas 66219 at 913-551-7039, or by email at Hamilton.heather@epa.gov.

SUPPLEMENTARY INFORMATION: Throughout this document “we,” “us,” or “our” refer to EPA.

I. Background

On November 4, 2008, Iowa submitted several revisions to EPA for approval into the SIP. On December 30, 2009, EPA took direct final action to approve the revisions to the SIP. (74 FR 68692). However, EPA did not act on several state administrative regulations that provided for electronic submittal of emissions inventory information, construction permit applications, and Title V operating permit applications, as Iowa had not obtained approval of its electronic document receiving system as required by the Cross-Media Electronic Reporting Rule (CROMERR) found at 40 CFR part 3 (70 FR 59848). Therefore, EPA did not take action on the electronic emissions inventory submittal provisions of Iowa Administrative Code (IAC) 567-21.1(3).

On December 9, 2015, EPA approved Iowa's CROMERR application for electronic reporting of emissions information through its State and Local Emissions Inventory System (SLEIS). (80 FR 76474). Accordingly, EPA is approving IAC 567-21-1(3) in to the SIP to allow for electronic submittal of emissions inventory data.

II. EPA's Evaluation

Section 110(1) of the Federal Clean Air Act (CAA) states that each revision to an implementation plan submitted by a state under this chapter shall be adopted by such state after reasonable notice and public hearing. In the November 4, 2008, submittal for rule IAC 567-21.1(3), Iowa provided documentation that reasonable notice and a public hearing were provided. No comments were received.

The EPA's regulations require states to revise the SIP to satisfy the requirements of 40 CFR part 3 (Cross-Media Electronic Reporting) in order to provide electronic documents to EPA in lieu of a paper document. Iowa submitted the CROMERR application to EPA on January 13, 2010, and amended the application on September 22, 2015. The application requests revisions to the state's EPA-authorized air program to allow electronic reporting of emissions inventories under 40 CFR part 52. EPA evaluated the application and determined that it meets the applicable requirements of the EPA air quality regulations because it is consistent with EPA's requirements for electronic reporting. The notice of EPA's decision to approve Iowa's application was published in the Federal Register on December 9, 2015, (80 FR 76474). This direct final action approves IAC 567-21.1(3) Emissions Inventory in to the Federally-approved SIP.

III. Final Action

EPA is approving a revision to the Iowa SIP by approving IAC 567-21.1(3) that allows electronic reporting of emissions inventories. Iowa's CROMERR submission was approved by the EPA on December 9, 2015.

We are publishing this direct final rule without a prior proposed rule because we view this as a noncontroversial action and anticipate no adverse comment. However, in the “Proposed Rules” section of this Federal Register, we are publishing a separate document that will serve as the proposed rule to approve the SIP revision if relevant adverse comments are received on this direct final rule. We will not institute a second comment period on this action. Any parties interested in commenting must do so at this time. For further information about commenting on this rule, see the ADDRESSES section of this document. If EPA receives adverse comment, we will publish a timely withdrawal in the Federal Register informing the public that this direct final rule will not take effect. We will address all public comments in any subsequent final rule based on the proposed rule.

Incorporation by Reference

In this rule, EPA is finalizing regulatory text that includes incorporation by reference. In accordance with requirements of 1 CFR 51.5, EPA is finalizing the incorporation by reference of Iowa's Chapter 21 rule 567-21.1 “Compliance Schedule” described in the direct final amendments to 40 CFR part 52 set forth below. EPA has made, and will continue to make, these documents generally available electronically through www.regulations.gov and at the appropriate EPA office (see the ADDRESSES section of this preamble for more information).

Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 18, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 1, 2016.
Mark Hague,
Regional Administrator, Region 7.

For the reasons stated in the preamble, EPA amends 40 CFR part 52 as set forth below:

PART 52—APPROVAL AND PROMULGATION OF IMPLEMENTATION PLANS

1. The authority citation for part 52 continues to read as follows:

Authority: 42 U.S.C. 7401 et seq.

Subpart Q—Iowa

2. Amend § 52.820(c) by revising entry 567-21.1 to read as follows:

§ 52.820 Identification of plan.

* * * * *

(c) * * *

EPA-Approved Iowa Regulations
Iowa citation | Title | State effective date | EPA Approval date | Explanation
Iowa Department of Natural Resources Environmental Protection Commission [567]
* * * * * * *
Chapter 21—Compliance
567-21.1 | Compliance Schedule | 10/15/08 | 02/16/16 and [Insert Federal Register citation] |
* * * * * * *

* * * * *

[FR Doc. 2016-02957 Filed 2-12-16; 8:45 am]

BILLING CODE 6560-50-P